DEPARTMENT OF ENERGY

Federal Energy Regulatory Commission

[Docket No. AD02-1-000]

eLibrary (Federal Energy Regulatory Records Information System); Notice Announcing Renaming of Ferris to eLibrary

August 11, 2003.

On May 13, 2002, the Commission issued a Notice announcing the establishment of the Federal Energy Regulatory Records Information System, or FERRIS. This online system replaced three document management systems that were previously available at the Commission's Internet Web site: the Commission Issuance Posting System (CIPS), the Record Information Management System (RIMS), and the Docket Sheet System.

The Commission now gives notice that, effective August 11, 2003, FERRIS is renamed to eLibrary. This action coincides with the launch of the Commission's new Internet Web site today at http://www.ferc.gov.

The name eLibrary is in keeping with the e-Government services the Commission has planned as part of its FERC Online initiatives. See www.ferc.gov/docs-filing/ferconline.asp.

eLibrary will have essentially the same features as FERRIS. Over the next coming year, eLibrary will be improved to meet the needs of the Commission's customers. eLibrary users will also continue to see references to FERRIS. The referenced materials will be changed to eLibrary over the next couple of months.

For additional information on this topic, you may contact Ellen Brown, OED, Division of Chief Information Officer, at 202-502-8663 or ellen.brown@ferc.gov.; or Brooks Carter, Assistant Secretary for Information Resources, OSEC, at 202-502-8145 or brooks.carter@ferc.gov.

Magalie R. Salas,
Secretary.

[FR Doc. 03-20971 Filed 8-15-03; 8:45 am]

BILLING CODE 6717-01-P